DEPARTMENT OF TRANSPORTATION

Federal Aviation Administration

14 CFR Part 39

[Docket No. FAA-2009-1123; Directorate Identifier 2009-SW-03-AD; Amendment 39-16127; AD 2009-25-08]

RIN 2120-AA64

Airworthiness Directives; Bell Helicopter Textron Canada (BHTC) Model 407 and Model 427 Helicopters

AGENCY: Federal Aviation Administration (FAA), Department of Transportation (DOT).

ACTION: Final rule; request for comments.

SUMMARY: We are adopting a new airworthiness directive (AD) for the BHTC Model 407 and Model 427 helicopters. This AD results from mandatory continuing airworthiness information (MCAI) ADs issued by the aviation authority of Canada. The MCAI ADs state that some hydraulic pump driveshaft assemblies may have been delivered with a missing internal plug or fastening rivet. This condition, if not corrected, could result in a loss of hydraulic pressure and subsequent loss of control of the helicopter.

DATES: This AD becomes effective on December 28, 2009.

We must receive comments on this AD by February 9, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron Canada Limited, 12,800 Rue de l'Avenir, Mirabel, Quebec J7J1R4, telephone (450) 437-2862 or (800) 363-8023, fax (450) 433-0272, or at http://www.bellcustomer.com/files/.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, Uday Garadi, ASW-111, Aviation Safety Engineer, Rotorcraft Directorate, Regulations and Guidance Group, 2601 Meacham Blvd., Fort Worth, Texas 76137, telephone (817) 222-5123, fax (817) 222-5961.

SUPPLEMENTARY INFORMATION:

Discussion

Transport Canada, which is the aviation authority for Canada, has issued Canadian AD No. CF-2009-03, dated January 22, 2009, to correct an unsafe condition for BHTC Model 407 helicopters, serial numbers (S/N) 53000 through 53408, and S/N 53421 through 53459. Transport Canada has also issued Canadian AD No. CF-2009-04, dated January 22, 2009, to correct an unsafe condition for Model 427 helicopters, S/N 56001 through 56046. These MCAI ADs state that helicopters with hydraulic pump input shaft, part number (P/N) 407-340-107-101, and interconnect adapter, P/N 407-340-108-101, that were installed in accordance with BHTC Technical Bulletin (TB) No. 407-01-30, Revision A, dated May 21, 2003 (for Model 407 helicopters), or TB No. 427-05-19, dated January 7, 2005 (for Model 427 helicopters), are not affected by the MCAI ADs. The MCAI ADs further state that some hydraulic pump driveshaft assemblies, P/N 406-040-072-105, may have been delivered with a missing internal plug or fastening rivet. This condition, if not corrected, could result in a loss of hydraulic pressure and subsequent loss of control of the helicopter.

You may obtain further information by examining the MCAI ADs and any related service information in the AD docket.

FAA's Evaluation and Unsafe Condition Determination

These helicopters have been approved by the aviation authority of Canada, and are approved for operation in the United States. Pursuant to our bilateral agreement with Canada, they have notified us of the unsafe condition described in the MCAI ADs. We are issuing this AD because we evaluated all information provided by Transport Canada and determined the unsafe condition exists and is likely to exist or develop on other helicopters of these same type designs.

Differences Between This AD and the MCAI ADs

This AD differs from MCAI AD No. CF-2009-03, applicable to Model 407 helicopters, and MCAI AD No. CF-2009-04, applicable to Model 427 helicopters, both dated January 22, 2009, which require compliance with a part of the BHTC service information that specifies inspecting “spares stock”, and also require attaching a “serviceable” tag to parts in inventory. This AD does not require either of those actions. Also, the compliance section of this AD refers to “50 hours time-in-service” instead of “50 hours air time,” which is used in both of the MCAI ADs. Further, the MCAI ADs require performing actions in accordance with the BHTC alert service and technical bulletins or later revisions approved by the Chief, Continuing Airworthiness, Transport Canada. The BHTC alert service and technical bulletins describe additional inspections for wear that are not required by this AD; we have listed those bulletins in the “Related Information” section of this AD. Finally, the MCAI AD for the Model 427 helicopter applies to S/N 58001 and S/N 58002. Per U.S. Type Certificate R00001RC, neither of these helicopters is eligible for an FAA Airworthiness Certificate and thus, this AD does not apply to them.

Costs of Compliance

We estimate that this AD will affect about 259 BHTC Model 407 helicopters and 16 BHTC Model 427 helicopters of U.S. registry. We also estimate that it will take about 1.5 work-hours per helicopter to perform a one-time inspection of the hydraulic pump driveshaft assembly, P/N 406-040-072-105, to determine the presence of the internal plug in the center of the driveshaft, as well as the fastening rivet that holds the internal plug in place, and 1 work-hour to install a replacement shaft and adapter, if necessary. The average labor rate is $80 per work-hour. Required parts will cost about $1,850 per helicopter, to install an input shaft and adapter, if needed. Based on these figures, we estimate the cost of this AD on U.S. operators will be $563,750 or $2,050 per helicopter to inspect and replace parts.

FAA's Determination of the Effective Date

An unsafe condition exists that requires the immediate adoption of this AD. We find that the risk to the flying public justifies waiving notice and comment prior to adoption of this rule because a hydraulic pump driveshaft assembly with a missing internal plug or fastening rivet could result in a loss of hydraulic pressure and subsequent loss of control of the helicopter. Because the compliance time to correct this unsafe condition is short, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-1123; Directorate Identifier 2009-SW-03-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-25-08 Bell Helicopter Transport Canada: Amendment 39-16127. Docket No. FAA-2009-1123; Directorate Identifier 2009-SW-03-AD.

Effective Date

(a) This airworthiness directive (AD) becomes effective on December 28, 2009.

Other Affected ADs

(b) None.

Applicability

(c) This AD applies to Model 407 helicopters, serial numbers (S/N) 53000 through 53408, and S/N 53421 through 53459, and Model 427 helicopters, S/N 56001 through 56046, certificated in any category. This AD does not apply to helicopters with hydraulic pump input shaft, part number (P/N) 407-340-107-101, and interconnect adapter, P/N 407-340-108-101, which is a direct replacement for hydraulic pump driveshaft assembly, P/N 406-040-072-105, and the subject of this AD.

Reason

(d) The mandatory continuing airworthiness information (MCAI) ADs state that some hydraulic pump driveshaft assemblies, P/N 406-040-072-105, may have been delivered with a missing internal plug or fastening rivet. This condition, if not corrected, could result in a loss of hydraulic pressure and subsequent loss of control of the helicopter.

Actions and Compliance

(e) During the next driveshaft lubrication, or within 50 hours time-in-service or 30 calendar days, whichever occurs first, unless already accomplished, do the following:

(1) Perform a one-time inspection of the hydraulic pump driveshaft assembly, P/N 406-040-072-105, to determine if an internal plug and a fastening rivet are correctly installed.

(2) If either the internal plug, P/N 406-040-094-101, or the fastening rivet, P/N MS20613-3P10, is not installed, replace the hydraulic pump driveshaft assembly, P/N 406-040-072-105, with an airworthy hydraulic pump input shaft, P/N 407-340-107-101, and interconnect adapter, P/N 407-340-108-101.

Differences Between This AD and the MCAI ADs

(f) This AD differs from MCAI AD No. CF-2009-03, applicable to Model 407 helicopters, and MCAI AD No. CF-2009-04, applicable to Model 427 helicopters, both dated January 22, 2009, which require compliance with a part of the BHTC service information that specifies inspecting “spares stock”, and also require attaching a “serviceable” tag to parts in inventory. This AD does not require either of those actions. Also, the compliance section of this AD refers to “50 hours time-in-service” instead of “50 hours air time,” which is used in both of the MCAI ADs. Further, the MCAI ADs require performing actions in accordance with the BHTC alert service and technical bulletins or later revisions approved by the Chief, Continuing Airworthiness, Transport Canada. The BHTC alert service and technical bulletins describe additional inspections for wear that are not required by this AD; we have listed those bulletins in the “Related Information” section of this AD. Finally, the MCAI AD for the Model 427 helicopter applies to S/N 58001 and S/N 58002. Per U.S. Type Certificate R00001RC, neither of these helicopters is eligible for an FAA Airworthiness Certificate and thus, this AD does not apply to them.

Other Information

(g) Alternative Methods of Compliance (AMOCs): The Manager, Safety Management Group, FAA, ATTN: Uday Garadi, Aviation Safety Engineer, Rotorcraft Directorate, Regulations and Guidance Group, 2601 Meacham Blvd., Fort Worth, Texas 76137, telephone (817) 222-5123, fax (817) 222-5961, has the authority to approve AMOCs for this AD, if requested using the procedures found in 14 CFR 39.19.

(h) For service information identified in this AD, contact Bell Helicopter Textron Canada Limited, 12,800 Rue de l'Avenir, Mirabel, Quebec J7J1R4, telephone (450) 437-2862 or (800) 363-8023, fax (450) 433-0272, or at http://www.bellcustomer.com/files/.

Related Information

(i) Transport Canada MCAI Airworthiness Directive AD No. CF-2009-03 and No. CF-2009-04, both dated January 22, 2009; and Bell Helicopter Textron Canada Alert Service Bulletin No. 407-08-83, dated May 22, 2008, Alert Service Bulletin No. 427-08-22, dated June 26, 2008, Technical Bulletin No. 407-01-30, Revision A, dated May 21, 2003, and Technical Bulletin No. 427-05-19, dated January 7, 2005 contain related information.

Joint Aircraft System/Component (JASC) Code

(j) JASC Code 2913: Hydraulic Pump, main.

Issued in Fort Worth, Texas, on November 19, 2009.
Gary B. Roach,
Acting Manager, Rotorcraft Directorate, Aircraft Certification Service.

[FR Doc. E9-29427 Filed 12-10-09; 8:45 am]

BILLING CODE 4910-13-P